DEPARTMENT OF THE TREASURY

United States Mint

Proposed Collection: Comment Request for Customer Satisfaction and Opinion Surveys and Focus Group Interviews

AGENCY: United States Mint.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the United States Mint, a bureau of the Department of the Treasury, is soliciting comments on the United States Mint customer satisfaction and opinion surveys and focus group interviews.

DATES: Written comments should be received on or before June 19, 2006 to be assured of consideration.

ADDRESSES: Direct all written comments to Yvonne Pollard, Chief, Records Management Division, United States Mint, 801 9th Street, NW., 8th Floor, Washington, DC 20220; (202) 354-6784 (this is not a toll free number); YPollard@usmint.treas.gov.

FOR FURTHER INFORMATION CONTACT: Requests for additional information or copies of the information collection package should be directed to Brenda Butler, Program Analyst, Records Management Division, United States Mint, 801 9th Street, NW., 8th Floor, Washington, DC 20220; (202) 354-6785 (this is not a toll-free number); BrButler@usmint.treas.gov.

SUPPLEMENTARY INFORMATION: Title: United States Mint customer satisfaction and opinion surveys and focus group interviews.

OMB Number: 1525-0012

Abstract: The proposed customer satisfaction and opinion surveys and focus group interviews will allow the United States Mint to assess the needs and desires of customers for future products and more efficient, economical services.

Current Actions: The United States Mint conducts customer satisfaction and opinion surveys and focus group interviews to determine the level of satisfaction of United States Mint customers.

Type of Review: Revision of estimated annual respondents and burden hours.

Affected Public: The affected public includes: the serious and casual numismatic collectors, dealers and people in the numismatic business and the general public or one-time only customers.

Estimated Number of Respondents: The estimated number of respondents for the next three years is 15,756.

Estimated Total Annual Burden Hours: The estimated number of annual burden hours is 3010.

Requests for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: April 12, 2006.
Yvonne Pollard,
Chief, Records Management Division, United States Mint.

[FR Doc. E6-5725 Filed 4-17-06; 8:45 am]

BILLING CODE 4810-37-P